COMMISSION ON CIVIL RIGHTS

Notice of Public Meeting of the Oregon Advisory Committee to the U.S. Commission on Civil Rights

AGENCY: Commission on Civil Rights.

ACTION: Announcement of meeting.

SUMMARY: Notice is hereby given, pursuant to the provisions of the rules and regulations of the U.S. Commission on Civil Rights (Commission), and the Federal Advisory Committee Act (FACA), that a business meeting of the Oregon Advisory Committee to the Commission will hold a public business meeting via Zoom. The purpose of the meeting is to review and discuss the committee's project proposal.

DATES: Monday, February 23, 2026, from 12:30 p.m.-1:30 p.m. Pacific Time.

ADDRESSES: The meeting will be held via Zoom.

Registration Link (Audio/Visual): https://www.zoomgov.com/j/1605589611.

Join by Phone (Audio Only): 1-833 435 1820 USA Toll Free; Webinar ID: 160 558 9611.

Agenda: https://usccr.app.box.com/folder/364192458928 (note: a final meeting agenda will be available prior to the meeting date).

FOR FURTHER INFORMATION CONTACT: Kayla Fajota, Designated Federal Officer at kfajota@usccr.gov, or (434) 515-2395.

SUPPLEMENTARY INFORMATION: This virtual committee meeting is available to the public through the registration link above. Any interested member of the public may join at the link to listen to this meeting. An open comment period will be provided to allow members of the public to make a statement as time allows. Pursuant to the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning is available by selecting “CC” in the Zoom meeting platform. To request additional accommodations, please email Angelica Trevino, Support Services Specialist at atrevino@usccr.gov at least 10 business days prior to the meeting.

Members of the public are entitled to submit written comments; the comments must be received within 30 days following the meeting. Written comments may be emailed to Kayla Fajota, Designated Federal Officer at kfajota@usccr.gov. Persons who desire additional information may contact the Regional Programs Coordination Unit at (434) 515-2395.

Records generated from this meeting may be inspected and reproduced at the Regional Programs Coordination Unit Office, as they become available, both before and after the meeting. Records of the meetings will be available via the file sharing website: https://usccr.app.box.com/folder/271061562007?s=r6h92j9j27b78vvft9voq7b6kzdphlbl as well as at: www.facadatabase.gov under the Commission on Civil Rights, selecting the Advisory Committee of interest. Persons interested in the work of this Committee are directed to the Commission's website, http://www.usccr.gov, or may contact the Regional Programs Coordination Unit at the above phone number.

Dated: February 9, 2026
David Mussatt,
Supervisory Chief, Regional Programs Unit.

[FR Doc. 2026-02742 Filed 2-10-26; 8:45 am]

BILLING CODE P